DEPARTMENT OF COMMERCE

International Trade Administration

A-570-890

Wooden Bedroom Furniture From the People's Republic of China: Extension of Time Limits for the Preliminary Results of the Antidumping Duty Administrative Review and New Shipper Reviews

AGENCY: Import Administration, International Trade Administration, Department of Commerce.

EFFECTIVE DATE: October 6, 2006.

FOR FURTHER INFORMATION CONTACT: Lilit Astvatsatrian, AD/CVD Operations, Office 8, Import Administration, International Trade Administration, U.S. Department of Commerce, 14th Street and Constitution Avenue, NW, Washington, DC 20230; telephone: (202) 482-6412.

Background

The Department of Commerce (“the Department”) published an antidumping duty order on wooden bedroom furniture (“WBF”) from the People's Republic of China (“PRC”) on January 4, 2005. See Notice of Amended Final Determination of Sales at Less Than Fair Value and Antidumping Duty Order: Wooden Bedroom Furniture From the People's Republic of China, 70 FR 329 (January 4, 2005). On March 7, 2006, the Department published in the Federal Register a notice of the initiation of the antidumping duty administrative review of WBF from the PRC and new shipper reviews for the period June 24, 2004, through December 31, 2005. See Initiation of Administrative Review of Antidumping Duty Order on Wooden Bedroom Furniture from the People's Republic of China, 71 FR 11394 (March 7, 2006) and Wooden Bedroom Furniture from the People's Republic of China: Initiation of New Shipper Reviews, 71 FR 11404 (March 7, 2006) (“Initiation of Second Annual New Shipper Reviews”). On August 24, 2006, the Department aligned the deadlines and the time limits of the new shipper reviews of WBF with the 2004-2005 administrative review of WBF. See Memorandum to the File from Lilit Astvatsatrian, Case Analyst, through Wendy Frankel, Office Director, dated August 24, 2006. The preliminary results of these reviews are currently due no later than October 3, 2006

.

Extension of Time Limit of Preliminary Results

.

Section 751(a)(3)(A) of the Tariff Act of 1930, as amended (“the Act”), requires the Department to issue preliminary results within 245 days after the last day of the anniversary month of an order. However, if it is not practicable to complete the review within this time period, section 751(a)(3)(A) of the Act allows the Department to extend the time period to a maximum of 365 days. Completion of the preliminary results of this review within the 245-day period is not practicable because the Department needs additional time to analyze information pertaining to the respondents' sales practices, factors of production, and corporate relationships, to evaluate certain issues raised by the petitioners, and to issue and review responses to supplemental questionnaires

.

Because it is not practicable to complete this review within the time specified under the Act, we are fully extending the time period for issuing the preliminary results of review to 365 days until January 31, 2007, in accordance with section 751(a)(3)(A) of the Act. The final results continue to be due 120 days after the publication of the preliminary results. This notice is published pursuant to sections 751(a) and 777(i) of the Act

.

Dated: September 28, 2006.
Stephen J. Claeys,
Deputy Assistant Secretary for Import Administration.

[FR Doc. E6-16521 Filed 10-5-06; 8:45 am]

BILLING CODE 3510-DS-S